DEPARTMENT OF TRANSPORTATION

National Highway Traffic Safety Administration

[Docket No. NHTSA-2012-0178]

National Emergency Medical Services Advisory Council (NEMSAC); Notice of Federal Advisory Committee Meeting

AGENCY: National Highway Traffic Safety Administration (NHTSA), U.S. Department of Transportation (DOT).

ACTION: Meeting notice—National Emergency Medical Services Advisory Council.

SUMMARY: The NHTSA announces a meeting of NEMSAC to be held in the Metropolitan Washington, DC, area. This notice announces the date, time, and location of the meeting, which will be open to the public. The purpose of NEMSAC, a nationally recognized council of emergency medical services representatives and consumers, is to provide advice and recommendations regarding Emergency Medical Services (EMS) to DOT's NHTSA and to the Federal Interagency Committee on EMS (FICEMS).

DATES: The meeting will be held on January 29, 2013, from 8 a.m. to 3:00 p.m. EST, and on January 30, 2013, from 8 a.m. to 12 p.m. EST. A public comment period will take place on January 29, 2013 between 2 p.m. and 2:30 p.m. EST and January 30, 2013 between 11:30 a.m. and 11:45 a.m. EST. Written comments must be received by January 24, 2013.

ADDRESSES: The meeting will be held in the Delaware Room of the Marriott Wardman Park at 2660 Woodley Road NW., Washington, DC 20008.

FOR FURTHER INFORMATION CONTACT: Drew Dawson, Director, U.S. Department of Transportation, Office of Emergency Medical Services, 1200 New Jersey Avenue SE., NTI-140, Washington, DC 20590, telephone number 202-366-9966; email Drew.Dawson@dot.gov.

SUPPLEMENTARY INFORMATION: Notice of this meeting is given under the Federal Advisory Committee Act, Public Law 92-463, as amended (5 U.S.C. App.). The NEMSAC will meet on Tuesday and Wednesday, January 29-30, 2013, in the Delaware Room of the Marriott Wardman Park at 2660 Woodley Road NW., Washington, DC 20008.

Tentative Agenda of National EMS Advisory Council Meeting, January 29-30, 2013

The tentative agenda includes the following:

Tuesday, January 29, 2013 (8 a.m. to 3 p.m. EST)

(1) Opening Remarks

(2) Update on Programs from the NHTSA Office of EMS and FICEMS Agencies

(3) Discussion of the EMS Culture of Safety Strategy Draft Document

(4) Presentation, Discussion and Possible Adoption of Reports and Recommendations from NEMSAC Workgroups

a. Advisory on Leadership Developmental Planning in EMS

b. Advisory on NEMSIS: Achieving its Full Potential for Advancing Healthcare

c. Advisory on Fatigue in EMS

d. Compiling Evidence to Discuss the EMS Education Agenda for the Future

e. Improving Internal NEMSAC Processes

(5) Public Comment Period (2 p.m. to 2:30 p.m. EST)

(6) Discussion of NEMSAC Priorities, Strategies and Values

(7) Business of the Council

Wednesday, January 30, 2013 (8 a.m. to 12 p.m. EST)

(1) Unfinished Business/Continued Discussion from Previous Day

(2) Public Comment Period (11:30 a.m. to 11:45 a.m. EST)

(3) Next Steps and Adjourn

On Tuesday, January 29, 2013, from 3 p.m. to 5 p.m., the NEMSAC work groups will meet in breakout sessions. These sessions are open for public viewing, but not public participation.

Registration Information: This meeting will be open to the public; however, pre-registration is requested. Individuals wishing to attend must register online at http://events.SignUp4.com/NEMSACjan2013 no later than January 24, 2013. There will not be a teleconference option for this meeting.

Public Comment: Members of the public are encouraged to comment directly to the NEMSAC. Those who wish to make comments on Tuesday, January 29, 2013, between 2 p.m. and 2:30 p.m. EST or Wednesday, January 30, 2013 between 11:30 a.m. and 11:45 a.m. EST are requested to register in advance. In order to allow as many people as possible to speak, speakers are requested to limit their remarks to 5 minutes. Written comments from members of the public will be distributed to NEMSAC members at the meeting and should reach the NHTSA Office of EMS by January 25, 2013. Written comments may be submitted by either one of the following methods: (1) You may submit comments by email: nemsac@dot.gov or (2) you may submit comments by fax: (202) 366-7149.

A final agenda as well as meeting materials will be available to the public online through www.EMS.gov prior to January 29, 2013.

Issued on: December 28, 2012.
Michael L. Brown,
Acting Associate Administrator for Research and Program Development.

[FR Doc. 2012-31691 Filed 1-3-13; 8:45 am]

BILLING CODE 4910-59-P